JUDICIAL CONFERENCE OF THE UNITED STATES

Meeting of the Judicial Conference Advisory Committee on Rules of Criminal Procedure

AGENCY: Judicial Conference of the United States Advisory Committee on Rules of Criminal Procedure.

ACTION: Notice of Open Meeting.

SUMMARY: The Advisory Committee on Rules of Criminal Procedure will hold a two-day meeting. The meeting will be open to public observation but not participation.

DATES: April 11-12, 2011. Time: 8:30 a.m. to 5 p.m.

ADDRESS: United States Court of Appeals, Pioneer Courthouse, 700 SW. Sixth Avenue, Portland, OR 97204.

FOR FURTHER INFORMATION CONTACT: Peter G. McCabe, Secretary, Rules Committee Support Office, Administrative Office of the United States Courts, Washington, DC 20544, telephone (202) 502-1820.

Dated: December 21, 2010.
Peter G. McCabe,
Rules Committee Support Office.

[FR Doc. 2010-32434 Filed 12-27-10; 8:45 am]

BILLING CODE 2210-55-M